DEPARTMENT OF TRANSPORTATION

Research and Special Programs Administration

[Docket No. RSPA-03-16273]

Pipeline Safety: Stress Corrosion Cracking (SCC) Workshop

AGENCY: Office of Pipeline Safety, Research and Special Programs Administration, DOT.

ACTION: Notice; Workshop on Stress Corrosion Cracking (SCC).

SUMMARY: The Research and Special Programs Administration's (RSPA) Office of Pipeline Safety (OPS) and the National Association of Pipeline Safety Representatives (NAPSR) are cosponsoring a workshop on stress corrosion cracking (SCC) with the pipeline industry trade associations (American Petroleum Institute, Association of Oil Pipelines, Interstate Natural Gas Association of America, American Gas Association, and NACE International). The workshop will provide a forum for the discussion of SCC phenomena in both gas and hazardous liquid pipelines.

DATES: Tuesday, December 2, 2003, from 8 a.m. to 5 p.m.

ADDRESSES: The public may attend the meeting at the Westin Oaks Hotel, 5011 Westheimer Blvd., Houston, TX 77056 (telephone: 713-960-8100; fax: 713-960-6553). Operators of natural gas transmission and hazardous liquid pipelines are urged to attend. To facilitate meeting planning, advance registration for these meetings is strongly encouraged and can be accomplished online at the following Web site: http://primis/rspa.dot.gov/meetings.

Members of the public are welcome to attend the workshop. An opportunity will be provided for the public to ask questions or make short statements on the topics under discussion. You may submit written comments by mail or deliver to the Dockets Facility, U.S. Department of Transportation (DOT), Room PL-401, 400 Seventh Street, SW., Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should identify the docket and notice numbers which appear in the heading of this notice. Anyone who would like confirmation of mailed comments must include a self-addressed stamped postcard.

Anyone may search the electronic form of all comments received into any of our dockets by the name of the individual submitting the comment (or signing the comment, if submitted on behalf of an association, business, labor union, etc.). You may review DOT's complete Privacy Act Statement in the April 11, 2000, issue of the Federal Register (Volume 65, Number 70; Pages 19477-78) or you may visit http://dms.dot.gov.

Information on Services for Individuals with Disabilities: For information on facilities or services for individuals with disabilities or to request special assistance at the meeting, contact Juan Carlos Martinez (telephone: 202-366-1933; E-mail: juan.martinez@rspa.dot.gov).

FOR FURTHER INFORMATION CONTACT: Janice Morgan (telephone: 404-562-3552; E-mail janice.morgan@rspa.dot.gov) regarding the subject matter of this notice. You can read comments and other material in the docket on the Internet at: http://dms.dot.gov.

SUPPLEMENTARY INFORMATION: The first recorded SCC failure of a pipeline in the United States was in 1965. SCC continues to be a threat to the integrity of both gas transmission and hazardous liquid pipelines under certain conditions. Recent incidents throughout North America and elsewhere, including Australia, Russia, Saudi Arabia, and South America, have highlighted the threats to pipelines from SCC failures. Although SCC failures on hazardous liquid pipelines have been very rare compared with other threats to hazardous liquid pipelines and compared with SCC occurrences on natural gas pipelines, three SCC-caused failures of hazardous liquid pipelines have occurred in 2003.

RSPA/OPS recently issued an Advisory Bulletin to remind owners and operators of gas transmission and hazardous liquid pipelines to consider SCC as a risk factor when developing and implementing Integrity Management Plans. All owners and operators of pipeline systems, whether or not their pipeline systems are subject to the Integrity Management Plan rules, should determine whether their pipeline system is susceptible to SCC and assess the impact of SCC on pipeline integrity. Based on this evaluation an operator should prioritize application of internal inspection, hydrostatic testing, or other forms of integrity verification.

The workshop on December 2, 2003, will address the following topics:

1. Stress Corrosion Cracking—description, science, and history.

2. Practical application of SCC principles—how to assess SCC in operating pipelines within the context of integrity management.

3. Response to the occurrence of SCC—guidelines for response and remediation; addressing public concerns.

4. Research and development—knowledge gaps and next steps.

This is a technical workshop aimed at sharing information on SCC in pipelines among operators and technical experts, providing regulators with information they can use in pipeline inspection and oversight, and reviewing priorities for research to address the problems posed by SCC in operating gas and hazardous liquid pipelines.

RSPA/OPS will soon publish a final rule to require gas transmission pipelines to develop Integrity Management Plans for high consequence areas that incorporates requirements for addressing SCC threats by referencing Appendix A3 of standard ASME B31.8S. Although criteria and mitigation plans for near-neutral pH (6-8) SCC is not addressed in this standard, NACE International (NACE) is currently developing a standard on Direct Assessment of Stress Corrosion Cracking. Also, NACE will soon issue a technical committee report, External Stress Corrosion Cracking of Underground Pipelines, to provide information on SCC for hazardous liquid pipelines.

RSPA/OPS is cosponsoring this workshop with NAPSR and major pipeline industry trade groups, including the American Petroleum Institute (API) Association of Oil Pipelines (AOPL), Interstate Natural Gas Association of America (INGAA), American Gas Association (AGA), and a professional association, NACE International.

Authority: 49 U.S.C. 60102, 60109, 60117.

Issued in Washington, DC on October 7, 2003.
Jeffrey D. Wiese,
Manager, Program Development, Office of Pipeline Safety.

[FR Doc. 03-25894 Filed 10-10-03; 8:45 am]

BILLING CODE 4910-60-P